DEPARTMENT OF HOMELAND SECURITY

Transportation Security Administration

[Docket No. TSA-2005-21866; Amendment Nos. 1520-3, 1540-6, 1562-1]

Intent to Request Renewal From OMB of One Current Public Collection of Information: Enhanced Security Procedures at Ronald Reagan Washington National Airport

AGENCY: Transportation Security Administration (TSA), DHS.

ACTION: Notice of approval and extension.

SUMMARY: TSA invites public comment on one currently approved information collection requirement abstracted below that we will submit to the Office of Management and Budget (OMB) for renewal in compliance with the Paperwork Reduction Act.

DATES: Send your comments by October 25, 2005.

ADDRESSES: Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0035; Enhanced Security Procedures at Ronald Reagan Washington National Airport (DCA), 49 CFR part 1562. On July 19, 2005, the Transportation Security Administration (TSA) published an interim final rule (IFR) in the Federal Register (70 FR 41586) implementing the requirements of Sec. 823 of Vision 100—Century of Aviation Reauthorization Act (Pub.L. 108-176, 117 Stat. 2490, Dec. 12, 2003). In the IFR, TSA provided notice that it had sought emergency OMB approval for the information collections under this rule, which OMB subsequently approved on Aug. 17, 2005, and assigned OMB control number 1652-0035. Because this approval is only valid until Oct. 31, 2005, TSA is hereby requesting an extension of this information collection for the maximum 3-year period.

The IFR requires general aviation (GA) aircraft operators who wish to fly into and/or out of Ronald Reagan Washington National Airport (DCA) to designate a security coordinator and adopt a DCA Access Standard Security Program (DASSP). Once aircraft operators have complied with the DASSP requirements, they may be eligible to apply to the Federal Aviation Administration (FAA) for a reservation, and to TSA for authorization, to fly into and out of DCA.

To receive authorization for a flight, aircraft operators must submit certain information to TSA so that TSA can conduct name-based threat assessments on their crewmembers and passengers, including armed security officers (ASOs) who are required to be onboard. Each ASO must complete specialized training and receive authorization from TSA. The operators last point of departure must be from a Fixed Base Operator (FBO), which is an airport-based commercial enterprise that provides support services to aircraft operators, and which holds a security program issued by TSA at an airport designated by TSA (referred to in the IFR as “gateway airports”). At each gateway airport, TSA will inspect the aircraft and will screen the passengers, their carry-on property, and property carried in the cargo hold of the aircraft before it departs for DCA.

TSA will require the following individuals to submit fingerprints and other identifying information: individuals designated as security coordinators; flight crewmembers who operate GA aircraft into and out of DCA in accordance with the IFR; and ASOs approved in accordance with the IFR. In addition to fingerprints, these individuals, along with individuals onboard each aircraft into DCA, will be required to submit the following information: (1) Legal name, including first, middle, and last, any applicable suffix, and any other names used; (2) current mailing address, including residential address if different than current mailing address; (3) date and place of birth; (4) social security number, (submission is voluntary, although recommended); (5) citizenship status and date of naturalization if the individual is a naturalized citizen of the United States; and (6) alien registration number, if applicable. TSA will use this information to perform a criminal history records check (CHRC) and a security threat assessment in order to determine whether the individuals pose a security threat. For flight crewmembers, TSA will also use this information to check their FAA records to determine whether they have violated restricted airspace. As part of the threat assessment process, TSA will share the information with the Federal Bureau of Investigation (FBI) and the FAA. ASOs will also be required to provide personal history information (employment, criminal, education, training, military, medical, and law enforcement), as well as a photograph and weapon information.

Aircraft operators will be required to provide TSA with the flight plan and registration number of their aircraft that will operate to or from DCA. This information will also be shared with FAA for purposes of tracking and identifying approved aircraft. TSA estimates a total of 11,785 respondents annually. The total number of annual burden hours is estimated to be 13,297 hours per year.

Issued in Arlington, Virginia, on August 23, 2005.
Lisa S. Dean,
Privacy Officer.

[FR Doc. 05-17054 Filed 8-23-05; 4:30 pm]

BILLING CODE 4910-62-P